FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of General Counsel at (202)-523-5740 or GeneralCounsel@fmc.gov.

Agreement No.: 201234-008.

Agreement Name: Agreement by Ocean Common Carriers to Participate on the Exchange Board.

Parties: CMA CGM SA; Hapag-Lloyd AG; HMM Company Limited; Maersk A/S; Ocean Network Express Pte. Ltd. (ONE); and ZIM Integrated Shipping Services Ltd.

Filing Party: Ashley Craig; Venable LLP.

Synopsis: The Amendment removes MSC Mediterranean Shipping Company S.A. as a participating member.

Proposed Effective Date: 11/13/2025.

Location: https://www2.fmc.gov/FMC.Agreements.Web/Public/AgreementHistory/2064.

Agreement No.: 201459.

Agreement Name: MLL/HLUSA MECL Space Charter Agreement.

Parties: Maersk Line, Limited; and Hapag-Lloyd USA, LLC.

Filing Party: Wayne Rohde; Cozen O'Connor.

Synopsis: The Agreement authorizes Maersk Line, Limited to charter space to Hapag-Lloyd USA in the trade between ports on the U.S. East Coast on the one hand and ports in India and the United Arab Emirates on the other hand.

Proposed Effective Date: 11/13/2025.

Location: https://www2.fmc.gov/FMC.Agreements.Web/Public/AgreementHistory/89634.

Dated: November 14, 2025.
Jennifer Everling,
Assistant Secretary.

[FR Doc. 2025-20228 Filed 11-17-25; 8:45 am]

BILLING CODE 6730-02-P